DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS (the Secretary) is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 08N146B, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2016, through October 31, 2016. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: November 23, 2016.
James Macrae,
Acting Administrator.

List of Petitions Filed

1. Chi Quach on behalf of J. T., Garden Grove, California, Court of Federal Claims No: 16-1258V.

2. Anthony Irwin, Midlothian, Texas, Court of Federal Claims No: 16-1260V.

3. Doncella H. Voncannon, Raleigh, North Carolina, Court of Federal Claims No: 16-1261V.

4. Sally Voice, Phoenix, Arizona, Court of Federal Claims No: 16-1262V.

5. Helen G. Isham, Greensboro, North Carolina, Court of Federal Claims No: 16-1266V.

6. Jarmaine Burkett on behalf of R. G., Allentown, Pennsylvania, Court of Federal Claims No: 16-1267V.

7. Tammy Gortmaker, Sioux Falls, South Dakota, Court of Federal Claims No: 16-1269V.

8. Angela Barry, Washington, District of Columbia, Court of Federal Claims No: 16-1270V.

9. Paloma Ermel, Las Vegas, Nevada, Court of Federal Claims No: 16-1271V.

10. Cecelia Buchanan, Arlington, Texas, Court of Federal Claims No: 16-1272V.

11. Staci Putnam on behalf of A. B., Deceased, Jackson, Michigan, Court of Federal Claims No: 16-1273V.

12. David Replogle, Rockford, Illinois, Court of Federal Claims No: 16-1274V.

13. Beth Cook on behalf of B. T., Washington, District of Columbia, Court of Federal Claims No: 16-1275V.

14. Mary Gallagher, Cambridge, Massachusetts, Court of Federal Claims No: 16-1277V.

15. Laurie Powell, Westminster, Colorado, Court of Federal Claims No: 16-1278V.

16. Alyssa Salerno, Brewster, New York, Court of Federal Claims No: 16-1280V.

17. Jody R. Smith, Marshfield, Wisconsin, Court of Federal Claims No: 16-1282V.

18. Curtis Bakken, Park Rapids, Minnesota, Court of Federal Claims No: 16-1283V.

19. Krista M. Gut on behalf of Jeremy D. Gut, Deceased, Columbus, Ohio, Court of Federal Claims No: 16-1284V.

20. Michael Ferg on behalf of Sarah Morcos, Deceased, Dallas, Texas, Court of Federal Claims No: 16-1285V.

21. William R. Choiniere, Minneapolis, Minnesota, Court of Federal Claims No: 16-1286V.

22. Nicole Mackey, Denver, Colorado, Court of Federal Claims No: 16-1289V.

23. Noreen Fontana, Roseville, Minnesota, Court of Federal Claims No: 16-1290V.

24. James E. Black, Scottsboro, Alabama, Court of Federal Claims No: 16-1292V.

25. Robert Kinzie, Seymour, Indiana, Court of Federal Claims No: 16-1293V.

26. Anthony Casciano, Bethlehem, Pennsylvania, Court of Federal Claims No: 16-1294V.

27. Glen A. Hein, Coventry, Connecticut, Court of Federal Claims No: 16-1295V.

28. Katherine M. Peterson on behalf of Marlee Michele Peterson, Frankfort, Kentucky, Court of Federal Claims No: 16-1296V.

29. Stacy Ragsdale on behalf of Earl Wayne Harner, Deceased, Harrisburg, Illinois, Court of Federal Claims No: 16-1298V.

30. Julie Jodoin, Sarasota, Florida, Court of Federal Claims No: 16-1299V.

31. Sarah Gantar and George Holloman on behalf of C. H., Deceased, Yucca Valley, California, Court of Federal Claims No: 16-1303V.

32. Sharyn Waidzunas, Tampa, Florida, Court of Federal Claims No: 16-1304V.

33. Cheryl Nicosia and David Nicosia on behalf of A. N., Chicago, Illinois, Court of Federal Claims No: 16-1305V.

34. Janna Duckett, Anniston, Alabama, Court of Federal Claims No: 16-1306V.

35. Thomas P. Kelleher, Sterling, Virginia, Court of Federal Claims No: 16-1307V.

36. Russell Blender, Washington, District of Columbia, Court of Federal Claims No: 16-1308V.

37. Inez Bush, Los Angeles, California, Court of Federal Claims No: 16-1310V.

38. Kathaleen N. Vuinovich, Greensboro, North Carolina, Court of Federal Claims No: 16-1312V.

39. Elaine Ross, Gibsonia, Pennsylvania, Court of Federal Claims No: 16-1313V.

40. Thaihoa Huynh and Cuong Nguyen on behalf of E. N., Chicago, Illinois, Court of Federal Claims No: 16-1314V.

41. Robert St. Pierre, Washington, District of Columbia, Court of Federal Claims No: 16-1315V.

42. Linda Meadows, Vancouver, Washington, Court of Federal Claims No: 16-1317V.

43. Gabriela Broughal, Ventura, California, Court of Federal Claims No: 16-1318V.

44. Randy Blair Davis, Ely, Nevada, Court of Federal Claims No: 16-1320V.

45. Brian Carney, Southwick, Massachusetts, Court of Federal Claims No: 16-1321V.

46. Lori Schoonover, Kansas City, Missouri, Court of Federal Claims No: 16-1324V.

47. Vada Kimey, Fort Walton Beach, Florida, Court of Federal Claims No: 16-1325V.

48. May Ruby Johnson, White Sands Missile Range, New Mexico, Court of Federal Claims No: 16-1326V.

49. Gretchen Maciver, Sarasota, Florida, Court of Federal Claims No: 16-1327V.

50. Donald Misch, Boulder, Colorado, Court of Federal Claims No: 16-1328V.

51. Lisa Lebron on behalf of L. L., Orlando, Florida, Court of Federal Claims No: 16-1329V.

52. Anthony Ricard, Lakeside, California, Court of Federal Claims No: 16-1330V.

53. Michael Parrish, Phoenix, Arizona, Court of Federal Claims No: 16-1331V.

54. Michele M. Phillips, Barberton, Ohio, Court of Federal Claims No: 16-1332V.

55. Julie R. Korb, Greenfield, Wisconsin, Court of Federal Claims No: 16-1333V.

56. Suzan Cluck, Irving, Texas, Court of Federal Claims No: 16-1334V.

57. Patricia G. Stewart, Elizabethtown, Kentucky, Court of Federal Claims No: 16-1336V.

58. Marguerite Acker, Midland, Michigan, Court of Federal Claims No: 16-1337V.

59. Robert Giesbrecht, Fargo, North Dakota, Court of Federal Claims No: 16-1338V.

60. Ron Collier, Annapolis, Maryland, Court of Federal Claims No: 16-1339V.

61. Elijah Thomas, Washington, District of Columbia, Court of Federal Claims No: 16-1340V.

62. Wossen Tariku, Spokane, Washington, Court of Federal Claims No: 16-1341V.

63. Brittany N. Ridgeway, Spokane, Washington, Court of Federal Claims No: 16-1342V.

64. Carol Stanley, Knoxville, Tennessee, Court of Federal Claims No: 16-1343V.

65. Carolyn E. Cecil, Baltimore, Maryland, Court of Federal Claims No: 16-1344V.

66. Linda Adkins Greer on behalf of Estate of Michael Stephen Greer, Deceased, Birmingham, Alabama, Court of Federal Claims No: 16-1345V.

67. Irvin Walser, Highpoint, North Carolina, Court of Federal Claims No: 16-1347V.

68. Justin Rogers, Lake Success, New York, Court of Federal Claims No: 16-1349V.

69. Stephanie Delguzzi on behalf of S. D., Beverly Hills, California, Court of Federal Claims No: 16-1350V.

70. Robin Posniak, Flushing, New York, Court of Federal Claims No: 16-1351V.

71. Jennifer N. Jarvis on behalf of J. N. J., Gassaway, West Virginia, Court of Federal Claims No: 16-1354V.

72. Debra Johnson, Lewiston, Maine, Court of Federal Claims No: 16-1356V.

73. Douglas A. Freedman, Chicago, Illinois, Court of Federal Claims No: 16-1357V.

74. Eric G. Winston, New York, New York, Court of Federal Claims No: 16-1359V.

75. Kathleen Gregory, Everett, Washington, Court of Federal Claims No: 16-1360V.

76. Yiwei Sun, Southborough, Massachusetts, Court of Federal Claims No: 16-1361V.

77. Martha-Helene Stapleton, Alexandria, Virginia, Court of Federal Claims No: 16-1362V.

78. Paulette R. Miliner, Greensboro, North Carolina, Court of Federal Claims No: 16-1364V.

79. Anne S. Andres, Pittsburgh, Pennsylvania, Court of Federal Claims No: 16-1366V.

80. Jacqueline M. Duncan, Delaware, Ohio, Court of Federal Claims No: 16-1367V.

81. Jacqueline Dickson, Lake City, Florida, Court of Federal Claims No: 16-1370V.

82. Elizabeth Trunk, Cincinnati, Ohio, Court of Federal Claims No: 16-1371V.

83. Richard Knauss, Easton, Pennsylvania, Court of Federal Claims No: 16-1372V.

84. Neely H. Cooke, Richmond, Virginia, Court of Federal Claims No: 16-1373V.

85. Alexis Farrell, Yuba City, California, Court of Federal Claims No: 16-1374V.

86. Thomas McCandless, San Mateo, California, Court of Federal Claims No: 16-1375V.

87. Virgilio Dasilveira, North Dartmouth, Massachusetts, Court of Federal Claims No: 16-1376V.

88. Elizabeth Glick, Dallas, Texas, Court of Federal Claims No: 16-1377V.

89. Amy Komaki, Dallas, Texas, Court of Federal Claims No: 16-1379V.

90. Wogayehu Dubale, Los Angeles, California, Court of Federal Claims No: 16-1381V.

91. Beth Taylor on behalf of K. S., Farmington Hills, Michigan, Court of Federal Claims No: 16-1382V.

92. Ray A. Robbins, Hardinsburg, Kentucky, Court of Federal Claims No: 16-1385V.

93. Andrew Sanders, Washington, District of Columbia, Court of Federal Claims No: 16-1386V.

94. Jodi Cooper, Washington, District of Columbia, Court of Federal Claims No: 16-1387V.

95. Michael Ray, Washington, District of Columbia, Court of Federal Claims No: 16-1388V.

96. Ritu Bhatia-Nunez, Delray Beach, Florida, Court of Federal Claims No: 16-1389V.

97. Heather Button on behalf of William S. Button, Wheaton, Illinois, Court of Federal Claims No: 16-1391V.

98. Meera Thakoor, Washington, District of Columbia, Court of Federal Claims No: 16-1392V.

99. Don Lewis, Mountain View, California, Court of Federal Claims No: 16-1394V.

100. Margaret Morelli, Northville, Michigan, Court of Federal Claims No: 16-1395V.

101. Noelle James on behalf of Theada Marie Gibbins, Yakima, Washington, Court of Federal Claims No: 16-1397V.

102. Linda Shonka, Lincoln, Nebraska, Court of Federal Claims No: 16-1398V.

103. William Bojduj, Beverly Hills, California, Court of Federal Claims No: 16-1399V.

104. Katharine Gmuer on behalf of T. G., Washington, District of Columbia, Court of Federal Claims No: 16-1400V.

105. Karen Aebig, Scarsdale, New York, Court of Federal Claims No: 16-1401V.

106. Kathey Woolard, Lexington, South Carolina, Court of Federal Claims No: 16-1402V.

107. Scott Taylor, Marysville, Washington, Court of Federal Claims No: 16-1403V.

108. Annemone Mohler, Gresham, Oregon, Court of Federal Claims No: 16-1404V.

109. Karina C. Kurtz, Gloucester, Virginia, Court of Federal Claims No: 16-1408V.

110. Charles A. Yancey, Houston, Texas, Court of Federal Claims No: 16-1410V.

111. Joseph Shapiro, Washington, District of Columbia, Court of Federal Claims No: 16-1411V.

112. Bradley Proctor, Pensacola, Florida, Court of Federal Claims No: 16-1412V.

113. Melinda Middlebrooks, Washington, District of Columbia, Court of Federal Claims No: 16-1413V.

114. Marc Meyer, Naples, Florida, Court of Federal Claims No: 16-1414V.

115. Charlotte Vaughn, Birmingham, Alabama, Court of Federal Claims No: 16-1415V.

116. Terry E. Christopher, Richmond, Virginia, Court of Federal Claims No: 16-1416V.

117. Corinna Baye, Morehead City, North Carolina, Court of Federal Claims No: 16-1419V.

118. Randall Fondow, Green Bay, Wisconsin, Court of Federal Claims No: 16-1420V.

119. Sharon Volpe, Arlington Heights, Illinois, Court of Federal Claims No: 16-1422V.

120. Donald A. Haubner, Cincinnati, Ohio, Court of Federal Claims No: 16-1426V.

121. Judith Wiersema, Greensboro, North Carolina, Court of Federal Claims No: 16-1430V.

122. Stephanie Mercado on behalf of L. A. W., West Hollywood, California, Court of Federal Claims No: 16-1433V.

123. Cheryl Walker, Beverly Hills, California, Court of Federal Claims No: 16-1434V.

124. Jerald Smith, Beverly Hills, California, Court of Federal Claims No: 16-1435V.

125. Clara Allevato, Beverly Hills, California, Court of Federal Claims No: 16-1437V.

[FR Doc. 2016-28868 Filed 11-30-16; 8:45 am]

BILLING CODE 4165-15-P